ENVIRONMENTAL PROTECTION AGENCY

[OPP-2004-0266; FRL-7734-1]

Chromated Copper Arsenate (CCA); Amendment to Terminate a Use

AGENCY: Environmental Protection Agency (EPA).

ACTION: Notice.

SUMMARY: This notice announces EPA's cancellation order granting amendments to terminate uses, voluntarily requested by the registrant(s) and accepted by the Agency, of products containing the pesticide Chromated Copper Arsenate (CCA), pursuant to section 6(f)(1) of the Federal Insecticide, Fungicide, and Rodenticide Act (FIFRA), as amended. This cancellation order follows a September 8, 2004 Federal Register Notice of Receipt of Requests (69 FR 54278) from the CCA registrants to voluntarily amend their affected product registrations to terminate the use “members out of water and not subject to salt water [or brackish water] splash, and not in soil use,” as currently stated under American Wood Preservers' Association (AWPA) Standard C18 (Wood for Marine Construction). The registrants requested that these use terminations become effective December 31, 2004. For further information, please refer to the CCA guidance document at http://www.epa.gov/pesticides/factsheets/chemicals/ cca_awpa_june.pdf. In the September 8, 2004 Notice, EPA indicated that it intended to issue a cancellation order implementing the amendments to terminate the use. All affected CCA registrants waived the 180-day comment period (i.e., any comment period in excess of 30 days). Accordingly, EPA hereby issues in this notice a cancellation order granting the requested amendments to terminate the uses. Any distribution, sale, or use of the CCA products subject to this cancellation order is permitted only in accordance with the terms of this cancellation order, including any existing stocks provisions.

DATES: The cancellations are effective September 7, 2005.

FOR FURTHER INFORMATION CONTACT: Rebecca Miller, Antimicrobials Division (7510C), Office of Pesticide Programs, Environmental Protection Agency, 1200 Pennsylvania Ave., NW., Washington, DC 20460-0001; telephone number: (703) 305-0012; fax number: (703) 308-8481; e-mail address: miller.rebecca@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPP-2004-0266. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

This notice announces issuance of a cancellation order granting amendments to terminate certain uses on pesticide products containing CCA that are registered under section 3 of FIFRA. The use terminations requested by the registrants affect “members out of water and not subject to salt water [or brackish water] splash, and not in soil use,” as currently stated under American Wood Preservers' Association (AWPA) Standard C18 (Wood for Marine Construction). The affected registrations are listed in sequence by registration number in Table 2 of this unit.

Table 1.—Registrants Requesting Voluntary Amendment to Terminate Uses of Products
EPA Company No. | Company Name and Address
62190 | Arch Wood Protection, Inc., 1955 Lake Park Drive, Suite 250 Smyrna, GA 30080
10465 | Chemical Specialties, Inc., One Woodlawn Green Charlotte, NC 28217
3008 | Osmose, Inc., 980 Ellicott Street Buffalo, NY 14209-2398

Table 2.—Registrations With Requests for Amendments to Terminate Certain Uses
EPA Registration No. | Product Name
End Use Products¹
003008-17 | K-33-C (72%) Wood Preservative
003008-21 | Special K-33 Preservative
003008-34 | K-33 (60%) Wood Preservative
003008-35 | K-33 (40%) Type-B Wood Preservative
003008-36 | K-33-C (50%) Wood Preservative
003008-42 | K-33-A (50%) Wood Preservative
003008-72 | Osmose Arsenic Acid 75%
010465-26 | CCA Type-C Wood Preservative 50%
010465-28 | CCA Type-C Wood Preservative 60%
010465-32 | CSI Arsenic Acid 75%
062190-2 | Wolmanac Concentrate 50%
062190-8 | Wolmanac Concentrate 72%
062190-14 | Wolmanac Concentrate 60%
Manufacturing Use Products
003008-66 | Arsenic Acid 75%
010465-32 | CSI Arsenic Acid 75%
062190-7 | Arsenic Acid 75%
¹The September 8, 2004 Federal Register notice mistakenly referenced these products as “experimental use permit“ products. This clerical error did not affect the efficacy of that notice or this action in any way. That erroneous reference is hereby corrected by this footnote.

III. Summary of Public Comments Received and Agency Response to Comments

During the public comment period provided, EPA received no comments in response to the September 8, 2004 Federal Register notice announcing the Agency's receipt of the requests for voluntary cancellations and/or amendments to terminate certain uses of CCA.

IV. Cancellation Order

Pursuant to FIFRA section 6(f), EPA hereby approves, through this cancellation order, the requested amendments to terminate certain uses of CCA registrations identified in Table 2 of Unit II. Accordingly, the Agency orders that the CCA product registrations identified in Table 2 of Unit II. are herby amended to terminate the affected uses.

The affected products must bear the following label language in order to be in compliance with this order:

Revised Language End Use Product (EUP)

This product may only be used for preservative treatment of the following categories of forest products and in accordance with the respective cited standard (noted parenthetically) of the 2001 edition of the American Wood-Preservers' Association (AWPA) Standards: Lumber and Timber for Salt Water Use Only (C2), Piles (C3), Poles (C4), Plywood(C9), Wood for Highway Construction (C14), Round, Half Round and Quarter Round Fence Posts (C16), Poles, Piles and Posts Used as Structural Members on Farms, and Plywood Used on Farms (C16), Wood for Marine Construction (C18), Lumber and Plywood for Permanent Wood Foundations(C22), Round Poles and Posts Used in Building Construction (C23), Sawn Timber Used To Support Residential and Commercial Structures (C24), Sawn Crossarms (C25), Structural Glued Laminated Members and Laminations Before Gluing (C28), Structural Composite Lumber (C33), and Shakes and Shingles (C34); and in accordance with the respective cited standard (noted parenthetically) of the 2002 edition of the American Wood-Preservers' Association Standards: Lumber, Timbers and Plywood for Cooling Towers (C30). Forest products treated with this product may only be sold or distributed for uses within the AWPA Commodity Standards under which the treatment occurred.

Effective December 31, 2004, this product may only be used for preservative treatment of the following categories of forest products and in accordance with the respective cited standard (noted parenthetically) of the 2001 edition of the American Wood-Preservers' Association (AWPA) Standards: Lumber and Timber for Salt Water Use (also includes brackish water) Only (C2), Piles (C3), Poles (C4), Plywood(C9), Wood for Highway Construction (C14), Round, Half Round and Quarter Round Fence Posts (C16), Poles, Piles and Posts Used as Structural Members on Farms, and Plywood Used on Farms (C16), Wood for Marine Construction for Salt Water Use (also includes brackish water)(immersion and/or subject to saltwater (or brackish water) splash [“subject to saltwater (or brackish water) splash” means any member of a marine structure which is positioned above mean high tide, but is subject to frequent wetting from wave action], [Pilings (sheet, round and square), Timbers, and Plywood; Walers, Framing, Stringers and Cross Bracing (2″ x 8″ and/or 3″ x 6″ and larger nominal dimensions and treated to a minimum of 0.60 pcf) (C18), Lumber and Plywood for Permanent Wood Foundations (C22), Round Poles and Posts Used in Building Construction(C23), Sawn Timber Used To Support Residential and Commercial Structures(C24), Sawn Crossarms (C25), Structural Glued Laminated Members and Laminations Before Gluing (C28), Structural Composite Lumber (C33), and Shakes and Shingles (C34); and in accordance with the respective cited standard (noted parenthetically) of the 2002 edition of the American Wood-Preservers' Association Standards: Lumber, Timbers and Plywood for Cooling Towers (C30). Forest products treated with this product may only be sold or distributed for uses within the AWPA Commodity Standards under which the treatment occurred, except where otherwise provided above.

Revised Language Manufacturing Use Product (MUP)

This product may only be used (1) for formulation of the following end-use wood preservative products: Ammoniacal copper zinc arsenate (ACZA) or chromated copper arsenate (CCA) labeled in accordance with the Directions for Use shown below, or (2) by persons other than the registrant, in combination with one or more other products to make: ACZA wood preservative; or CCA wood preservative that is used in accordance with the Directions for Use shown below.

This product may only be used for preservative treatment of the following categories of forest products and in accordance with the respective cited standard (noted parenthetically) of the 2001 edition of the American Wood-Preservers' Association (AWPA) Standards: Lumber and Timber for Salt Water Use Only (C2), Piles (C3), Poles (C4), Plywood(C9), Wood for Highway Construction (C14), Round, Half Round and Quarter Round Fence Posts (C16), Poles, Piles and Posts Used as Structural Members on Farms, and Plywood Used on Farms (C16), Wood for Marine Construction (C18), Lumber and Plywood for Permanent Wood Foundations(C22), Round Poles and Posts Used in Building Construction (C23), Sawn Timber Used To Support Residential and Commercial Structures (C24), Sawn Crossarms (C25), Structural Glued Laminated Members and Laminations Before Gluing (C28), Structural Composite Lumber (C33), and Shakes and Shingles (C34); and in accordance with the respective cited standard (noted parenthetically) of the 2002 edition of the American Wood-Preservers' Association Standards: Lumber, Timbers and Plywood for Cooling Towers (C30). Forest products treated with this product may only be sold or distributed for uses within the AWPA Commodity Standards under which the treatment occurred.

Effective December 31, 2004, this product may only be used for preservative treatment of the following categories of forest products and in accordance with the respective cited standard (noted parenthetically) of the 2001 edition of the American Wood-Preservers' Association (AWPA) Standards: Lumber and Timber for Salt Water Use (also includes brackish water) Only (C2), Piles (C3), Poles (C4), Plywood(C9), Wood for Highway Construction (C14), Round, Half Round and Quarter Round Fence Posts (C16), Poles, Piles and Posts Used as Structural Members on Farms, and Plywood Used on Farms (C16), Wood for Marine Construction for Salt Water Use (also includes brackish water)(immersion and/or subject to saltwater (or brackish water) splash [“subject to saltwater (or brackish water) splash” means any member of a marine structure which is positioned above mean high tide, but is subject to frequent wetting from wave action], [Pilings (sheet, round and square), Timbers, and Plywood; Walers, Framing, Stringers and Cross Bracing (2″ x 8″ and/or 3″ x 6″ and larger nominal dimensions and treated to a minimum of 0.60 pcf) (C18), Lumber and Plywood for Permanent Wood Foundations (C22), Round Poles and Posts Used in Building Construction(C23), Sawn Timber Used To Support Residential and Commercial Structures(C24), Sawn Crossarms (C25), Structural Glue Laminated Members and Laminations Before Gluing (C28), Structural Composite Lumber (C33), and Shakes and Shingles (C34); and in accordance with the respective cited standard (noted parenthetically) of the 2002 edition of the American Wood-Preservers' Association Standards: Lumber, Timbers and Plywood for Cooling Towers (C30). Forest products treated with this product may only be sold or distributed for uses within the AWPA Commodity Standards under which the treatment occurred, except where otherwise provided above.

Furthermore, any distribution, sale, or use of existing stocks of the products identified in Table 2 of Unit II. in a manner inconsistent with any of the Provisions for Disposition of Existing Stocks set forth below in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. The cancellation order issued in this Notice includes the following existing stocks provisions.

The registrants of affected CCA products requested that the voluntary use terminations become effective December 31, 2004, with no provisions for existing stocks. Consequently, the Agency is not allowing for any existing stocks provisions for those affected products in the hands of the registrant on or after the effective date of the use terminations. Any sale, distribution, or use of those affected products on or after the effective date of this cancellation order is prohibited. This refers to CCA product labels that bear the C18 Marine Use, “members out of water and not subject to saltwater [or brackish water] splash and not in soil use,” and which do not bear labeling consistent with that set forth in Unit IV. above. Sale, distribution or use of the stocks in the channels of trade by persons other than the registrant may continue until depleted, provided any sale, distribution or use is in accordance with the existing label of that product.

List of Subjects

Environmental protection, Pesticides and pests, Chromated Copper Arsenate, CCA, and Treated Wood.

Dated: August 25, 2005.
Frank Sanders,
Acting Director, Antimicrobials Division, Office of Pesticide Programs.

[FR Doc. 05-17530 Filed 9-6-05; 8:45 am]

BILLING CODE 6560-50-S